DEPARTMENT OF AGRICULTURE

Submission for OMB Review; Comment Request

The Department of Agriculture has submitted the following information collection requirement(s) to OMB for review under the Paperwork Reduction Act of 1995, Public Law 104-13. Comments are requested regarding: whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques and other forms of information technology.

Comments regarding this information collection received by August 23, 2024 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Department of Agriculture

Office of the Chief Information Officer

Title: USDA Generic Solution for Solicitation for Funding Opportunity Announcements.

OMB Control Number: 0503-0028.

Summary of Collection: The U.S. Department of Agriculture (USDA) conducts a pre-clearance consultation program to provide the public and Federal agencies an opportunity to comment on proposed, revised, and continuing information collections before submitting them to the Office of Management and Budget (OMB).

This program helps to ensure requested data can be provided in the desired format, reporting burden (time and financial resources) is minimized, collection instruments are clearly understood, and the impact of collection requirements can be properly assessed. Periodically USDA solicits grant applications on http://grants.gov by issuing a Funding Opportunity Announcement, Request for Applications, Notice of Funding Announcement, Notice of Solicitation of Applications, Grants.gov announcement, or other funding announcement type. To ensure grants are awarded to the applicant(s) best suited to perform the functions of the grant, applicants are generally required to submit an application. The first part of USDA grant applications consists of submitting the application form(s), which includes the Standard Form 424, Application for Federal Assistance and may include additional standard grant application forms. The second part of a grant application usually requires a technical proposal demonstrating the applicant's capabilities in accordance with a statement of work or selection criteria and other related information as specified in the funding announcement. Following the grant award, the grant awardee may also be required to provide progress reports or additional documents.

Need and Use of the Information: The information collected in response to solicitations for grant applications has been and will be used by the USDA for issuing grants to the applicants most suited for fulfilling the mission of the grant.

Description of Respondents: State, Local, and Tribal Governments; Private Sector—businesses or other for-profits and not-for-profit institutions.

Number of Respondents: 1,000,000.

Frequency of Responses: Reporting: On occasion.

Total Burden Hours: 20,000,000.

Levi S. Harrell,
Departmental Information Collection Clearance Officer.

[FR Doc. 2024-16229 Filed 7-23-24; 8:45 am]

BILLING CODE 3410-KR-P